DEPARTMENT OF THE INTERIOR

National Park Service

National Register of Historic Places; Notification of Pending Nominations and Related Actions

Nominations for the following properties being considered for listing or related actions in the National Register were received by the National Park Service before November 14, 2009. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by December 16, 2009 .

J. Paul Loether,
Chief, National Register of Historic Places/National Historic Landmarks Program.

ARIZONA

Maricopa County

Palm Lane Gardens, 101-115 E. Palm La., Phoenix, 09001112

Villa del Coronado, 100-190 E. Coronado Rd., Phoenix, 09001113

Pima County

Villa Catalina, 3000-3034 E. 6th St. & 521-525 N. Country Club Rd., Tucson, 09001114

ARKANSAS

Cross County

Wynne Commercial Historic District, Roughly bounded by Front St., Commercial Ave., Terry St., Wilson St., and Pecan Ave., Wynne, 09001115

CALIFORNIA

San Bernardino County

California Theatre, The, 562 W. 4th St., San Bernardino, 09001116

San Francisco County

Armour & Co. Building, 1050 Battery St., San Francisco, 09001117

Four Fifty Sutter Building, 450 Sutter St., San Francisco, 09001118

COLORADO

Baca County

Two Buttes Gymnasium, (New Deal Resources on Colorado's Eastern Plains MPS) 5th and C Sts., Two Buttes, 09001119

Las Animas County

7-D School, (New Deal Resources on Colorado's Eastern Plains MPS) Co. Rd. 171 N. of Co. Rd. 50.6, Branson, 09001120

Prowers County

Prowers Country Welfare Housing, (New Deal Resources on Colorado's Eastern Plains MPS) 800 E. Maple St., Lamar, 09001121

ILLINOIS

Lake County

Mandel, Mr. Fred L., Jr., House, 2479 Woodbridge La., Highland Park, 09001122

Winnebago County

Valencia Court Apartments, 500-518 Fisher Ave., Rockford, 09001123

INDIANA

Adams County

Dugan, Charles, House, 420 W. Monroe St., Decatur, 09001124

Allen County

Indian Village Historic District, (Park and Boulevard System of Fort Wayne, Indiana MPS) Roughly bounded by Nuttman Ave on the N., Bluffton Rd. on E., Eagle Rd. on S., Norfold Southern ROW on W., Fort Wayne, 09001125

Southwood Park Historic District, (Historic Residential Suburbs in the United States, 1830-1960 MPS) Bounded by W. Pettit Ave., Stratford Rd., W. Sherwood Terrace, Hartman Rd., Lexington Ave., Indiana Ave., Fort Wayne, 09001126

Elkhart County

Koerting, William and Helen, House, 2625 Greenleaf Blvd., Elkhart, 09001128

Gibson County

Trippett-Glaze-Duncan Farm, IN 65 E. of Patoka, Patoka, 09001129

Hamilton County

Taylor Ten, Address Restricted, Noblesville, 09001130

Knox County

Simonson, Alfred, House, 207 Shipping St., Edwardsport, 09001131

Porter County

Chesterton Residential Historic District, Roughly a two block area between Lincoln & W. Indiana Aves., Chesterton, 09001134

Collier Lodge Site, Address Restricted, Kouts, 09001133

Ripley County

Champ's Ford Bridge, Co. Rd. 100S over Clifty Creek, 2 mi. W. of Burney, Burney, 09001127

Straber Ford Bridge, Co. Rd. 550 N. over Otter Creek, Osgood, 09001132

Shelby County

Middletown Bridge, Co. Rd. 450 S. over Conn's Creek, Middletown, 09001135

Pearson, Lora B., School, (Indiana's Public Common and High Schools MPS) 115 W. Colescott St., Shelbyville, 09001136

KENTUCKY

Bell County

Brooks House, 210 Arthur Heights, Middlesboro, 09001137

Cumberland County

Coe House, 433 N. Main St., Burkesville, 09001138

Hardin County

Hills, Jonathan, House, 202 N. Main St., Elizabethtown, 09001139

Larue County

Hodgenville Commercial Historic District (Boundary Increase), Water St. on N., High St. on the S., Greensburg St. on the E., and Walters St. on the W., Hodgenville, 09001140

Marion County

Bradfordsville Christian Church, 101 E. Main St., Bradfordsville, 09001141

St. Joseph Church, 3300 St. Joe Rd., Raywick, 09001142

Taylor County

Caldwell, John, Home, 105 Colonial Dr., Campbellsville, 09001143

Collins Residence, 4639 New Columbia Rd., Campbellsville, 09001144

Emerald Hill, 5025 New Columbia Rd., Campbellsville, 09001145

MAINE

Aroostook County

Martin, Isaie and Scholastique, House, 137 Saint Catherine St., Madawaska, 09001147

York County

Biddeford Main Street Historic District, 29 to 316 Main St., and portions of Elm, Jefferson, Adams, Washington, Franklin, Alfred and Water Sts., Biddeford, 09001146

MARYLAND

Caroline County

Linchester Mill, 3395 Linchester Rd., Preston, 09001148

Kent County

Gobbler Hill, 10121 Fairlee Rd., Chestertown, 09001149

Talbot County

Paw Paw Cove Site, Address Restricted, Tilghman, 09001150

MASSACHUSETTS

Plymouth County

Pinewoods Camp, 80 Cornish Field Rd., Plymouth, 09001151

MINNESOTA

Watonwan County

Grand Opera House, 502 First Ave. S., St. James, 09001152

NEW JERSEY

Bergen County

Arnault, Fridolin, House, 111 First St., Wood-Ridge Borough, 09001153

Edgewater Public Library, 49 Hudson Ave., Edgewater, 09001154

Burlington County

Chesterford School, 415 W. Main St., Maple Shade, 09001155

VIRGINIA

Charlottesville Independent city

McGuffey, William H., Primary School, 201 2nd St. N.W., Charlottesville, 09001156

Petersburg Independent city

Virginia Trunk & Bag Company, 600 W. Wythe St., Petersburg, 09001157

Richmond Independent city

First Battalion Virginia Volunteers Armory, 122 W. Leigh St., Richmond, 09001158

Russell County

Honaker Commercial Historic District, US Hwy 80, Honaker, 09001159

[FR Doc. E9-28634 Filed 11-30-09; 8:45 am]

BILLING CODE 4310-70-P